DEPARTMENT OF THE INTERIOR

Fish and Wildlife Service

[Docket No. FWS-HQ-IA-2016-0147; FXIA16710900000-178-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, U.S. Fish and Wildlife Service, Division of Management Authority, Branch of Permits, MS: IA, 5275 Leesburg Pike, Falls Church, VA 22041; fax (703) 358-2281.

FOR FURTHER INFORMATION CONTACT: Brenda Tapia, (703) 358-2104 (telephone); (703) 358-2281 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
00500C | Edwin Andrew | 81 FR 51926; August 5, 2016 | October 17, 2016.
00209C | Donald Bitz | 81 FR 51926; August 5, 2016 | October 17, 2016.
98815B | Christopher Sibert | 81 FR 51926; August 5, 2016 | September 30, 2016.
83954B | University of California, Santa Cruz | 81 FR 51926; August 5, 2016 | November 25, 2016.
00019C | Zoological Society of San Diego | 81 FR 55223; August 18, 2016 | September 30, 2016.
02160C | Freddy Valdez | 81 FR 55223; August 18, 2016 | October 4, 2016.
230539 | Florida State University—Robert K. Godfrey Herbarium | 81 FR 59239; August 29, 2016 | October 11, 2016.
03232C | Charles Butler | 81 FR 59239; August 29, 2016 | October 13, 2016.
02924C | Scott Rider | 81 FR 63787; September 16, 2016 | November 10, 2016.

Marine Mammals
Permit No. | Applicant | Receipt of application Federal Register notice | Permit issuance date
77245B | Anthony Pagano, USGS/Alaska Science Center | 81 FR 72606; October 20, 2016 | December 16, 2016.

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281.

Brenda Tapia,
Program Analyst/Data Administrator, Branch of Permits, Division of Management Authority.

[FR Doc. 2016-31242 Filed 12-27-16; 8:45 am]

BILLING CODE 4333-15-P